FEDERAL HOUSING FINANCE AGENCY

[No. 2011-N-06]

Privacy Act of 1974; System of Records

AGENCY: Federal Housing Finance Agency.

ACTION: Notice of the Establishment of New Systems of Records, Adoption of a Government-Wide System of Records, Removal of Existing Systems of Records, and notice of Government-Wide Systems of Records previously adopted by the Federal Housing Finance Agency.

SUMMARY: In accordance with the requirements of the Privacy Act of 1974, as amended (Privacy Act), the Federal Housing Finance Agency (FHFA) gives notice of the proposed establishment of seven new Privacy Act systems of records, the adoption of a government-wide Privacy Act system of records, the removal of four existing Privacy Act systems of records, and notice of twenty-one government-wide Privacy Act systems of records previously adopted by FHFA.

The proposed new systems are: “Mail, Contact, Telephone, and Other Lists” (FHFA-7); “Federal Home Loan Bank Directors” (FHFA-8); “Administrative Grievance Records” (FHFA-9); “Employee Benefits Records” (FHFA-10); “Transit Subsidy Program Records” (FHFA-11); “Parking Program Records” (FHFA-12); and “Freedom of Information Act and Privacy Act Records” (FHFA-13). Two of the proposed new systems, (FHFA-8) and (FHFA-9), will replace systems of records issued by one of FHFA's predecessor agencies, the Federal Housing Finance Board (FHFB) titled “FHFB-4 Federal Home Loan Bank Appointive Director Certification Forms” and “FHFB-3 Administrative Grievance Files.”

The new adopted system of records, “Personal Identity Verification Identity Management System” (GSA/GOVT-7), will replace systems of records issued by FHFA's predecessor agencies FHFB and the Office of Federal Housing Enterprise Oversight (OFHEO), titled “FHFB-8 Personal Identify Verification Management System” and “OFHEO-03 Employee Identification Card System.”

Notice is given that FHFA previously adopted the following government-wide systems of records: EEOC/GOVT-1 Equal Employment Opportunity in the Federal Government Complaint and Appeals Records; DOL/GOVT-1 Office of Worker's Compensation Programs, Federal Employees' Compensation Act File; DOL/GOVT-2 Job Corps Student Records; DOT/ALL-8 Employee Transportation Facilitation; GSA/GOVT-2 Employment Under Commercial Activities Contracts; EPA/GOVT-2—Federal Docket Management System (FDMS); GSA/GOVT-3 Travel Charge Card Program; GSA/GOVT-4 Contracted Travel Services Program; GSA/GOVT-6 GSA SmartPay Purchase Charge Card Program; GSA/GOVT-8 Excluded Parties List System (EPLS); MSPB/GOVT—1 Appeal and Case Records; OGE/GOVT-1 Executive Branch Public Financial Disclosure Reports and Other Ethics Program Records; OGE/GOVT-2 Confidential Statements of Employment and Financial Interests; OPM/GOVT-1 General Personnel Records; OPM/GOVT-2 Employee Performance File System Records; OPM/GOVT-3 Records of Adverse Actions; OPM/GOVT-5 Recruiting, Examining and Placement Records; OPM/GOVT-6 Personnel Research and Test Validation Records; OPM/GOVT-7 Applicant—Race, Sex, National Origin and Disability Status Records; OPM/GOVT-9 File on Position Classification Appeals, Job Grading Appeals, and Retained Grade or Pay Appeals, and Fair Labor Standard Act (FLSA) Claims and Complaints; OPM/GOVT-10 Employee Medical File System Records; and OSC/GOVT-1 OSC Complaint Litigation and Political Activity Files. Two of the proposed new systems, (FHFA-11) and (FHFA-12), will replace the system of records previously adopted by FHFA titled “DOT/ALL-8 Employee Transportation Facilitation” as these two new systems more accurately reflect the systems of records that FHFA maintains.

Upon the effective date of this notice, the replaced FHFB systems, “FHFB-3” published at 60 FR 46120 (September 5, 1995) and further amended, “FHFB-4” published at 64 FR 14919 (March 29, 1999) and further amended, and “FHFB-8” published at 71 FR 61052 on October 17, 2006; and the replaced OFHEO system “OFHEO-3” published at 63 FR 9007 on February 23, 1998, will be removed.

DATES: The addition of these new systems of records will become effective July 18, 2011 without further notice unless comments necessitate otherwise. FHFA will publish a new notice if in order to review comments the effective date is delayed or if changes are made based on comments received. To be assured of consideration, comments must be received on or before July 8, 2011.

ADDRESSES: Submit comments only once, identified by “2011-N-06,” using any one of the following methods:

• E-mail: Comments to Alfred M. Pollard, General Counsel, may be sent by e-mail to RegComments@fhfa.gov. Please include “2011-N-06” in the subject line of the message.

• Federal eRulemaking Portal: http://www.regulations.gov. Follow the instructions for submitting comments. If you submit your comment to the Federal eRulemaking Portal, please also send it by e-mail to FHFA at RegComments@fhfa.gov to ensure timely receipt by FHFA. Please include “2011-N-06” in the subject line of the message.

• U.S. Mail, United Parcel Service, Federal Express, or Other Mail Service: The mailing address for comments is: Alfred M. Pollard, General Counsel, Attention: Comments/2011-N-06, Federal Housing Finance Agency, 1700 G Street, NW., Washington, DC 20552. Please note that all mail sent to the FHFA via the U.S. Postal Service is routed through a national irradiation facility, a process that can delay delivery by approximately two weeks. For any time-sensitive correspondence, please plan accordingly.

• Hand Delivered/Courier: The hand delivery address is: Alfred M. Pollard, General Counsel, Attention: Comments/2011-N-06, Federal Housing Finance Agency, 1700 G Street, NW., Washington, DC 20552. The package should be logged at the Guard's Desk, First Floor, on business days between 9 a.m. to 5 p.m.

See SUPPLEMENTARY INFORMATION for additional information on submission and posting of comments.

FOR FURTHER INFORMATION CONTACT: Stacy Easter, Privacy Act Officer, privacy@fhfa.gov or 202-414-3762, or David A. Lee, Senior Agency Official for Privacy, privacy@fhfa.gov or 202-414-3804 (not toll free numbers), Federal Housing Finance Agency, 1700 G Street, NW., Washington DC 20552. The telephone number for the Telecommunications Device for the Deaf is 800-877-8339.

SUPPLEMENTARY INFORMATION:

I. Comments

Instructions: FHFA seeks public comments on the seven proposed new systems of records and will take all comments into consideration. See 5 U.S.C. 552a(e)(4) and (11). In addition to referencing “Comments/2011-N-06,” please reference the title and number of the system of records your comment addresses.

Posting and Public Availability of Comments: All comments received will be posted without change on the FHFA Web site at http://www.fhfa.gov, and will include any personal information provided. In addition, copies of all comments received will be available for examination by the public on business days between the hours of l0 a.m. and 3 p.m., at the Federal Housing Finance Agency, Fourth Floor, 1700 G Street, NW., Washington, DC 20552. To make an appointment to inspect comments, please call the Office of General Counsel at 202-414-6924.

II. Introduction

This notice satisfies the Privacy Act requirement that an agency publish a system of records notice in the Federal Register when there is an addition to the agency's system of records. Congress has recognized that application of all requirements of the Privacy Act to certain categories of records may have an undesirable and often unacceptable effect upon agencies in the conduct of necessary public business. Consequently, Congress established general exemptions and specific exemptions that could be used to exempt records from provisions of the Privacy Act. Congress also required that exempting records from provisions of the Privacy Act would require the head of an agency to publish a determination to exempt a record from the Privacy Act as a rule in accordance with the Administrative Procedure Act. The Director of FHFA has determined that records and information in these seven new systems of records are not exempt from the requirements of the Privacy Act.

As required by the Privacy Act, 5 U.S.C. 552a(r), and pursuant to paragraph 4c of Appendix I to OMB Circular No. A-130, “Federal Agency Responsibilities for Maintaining Records About Individuals,” dated February 8, 1996 (6l FR 6427, 6435 February 20, 1996), FHFA has submitted a report describing the seven new systems of records covered by this notice, to the Committee on Oversight and Government Reform of the House of Representatives, the Committee on Homeland Security and Governmental Affairs of the Senate, and the Office of Management and Budget.

III. Proposed, Adopted and Removed Systems of Records

The first proposed system is “Mail, Contact, Telephone, and Other Lists” (FHFA-7). The proposed system will contain records related to individuals, including FHFA employees, who submit to FHFA requests for information, subscriptions, guidance, informal advice, complaints, and assistance, and who register for FHFA-related activities and events, such as FHFA-sponsored seminars, training programs, or compliance meetings.

The second proposed system is “Federal Home Loan Bank Directors” (FHFA-8). The proposed system will contain records of certifications of eligibility and qualifications, and information concerning the financial interests of current and former Federal Home Loan Bank (FHLBank) Member and Independent Directors, and actual and potential candidates for election and their immediate families that may render that individual ineligible to serve as either a Member or Independent Director of an FHLBank. The information that is collected and contained in this system has been approved by the Office of Management and Budget under OMB Control No. 2590-0006, “Federal Home Loan Bank Directors (76 FR 5161 January 29, 2011).” This proposed system of records will replace the system of records issued by FHFA's predecessor agency FHFB. The replaced FHFB system, “FHFB-4 Federal Home Loan Bank Appointive Director Certification Forms,” was originally published in the Federal Register in 1999, see 64 FR 14919 (Mar. 29, 1999), and further amended in 2003, see 68 FR 39947 (Jul. 3, 2003); and in 2006, see 71 FR 61052 (Oct. 17, 2006).

The third proposed system is “Administrative Grievance Records” (FHFA-9). The proposed system will contain records related to individuals, including FHFA employees, who file administrative grievances with FHFA. This proposed system of records will replace the system of records issued by FHFA's predecessor agency FHFB. The replaced FHFB system, “FHFB-3 Administrative Grievance Files,” was originally published in the Federal Register in 1995, see 60 FR 46120 (Sept. 5, 1995), and further amended in 1999, see 64 FR 14919 (Mar. 29, 1999); in 2003, see 68 FR 39947 (Jul. 3, 2003); and in 2006, see 71 FR 61052 (Oct. 17, 2006).

The fourth proposed system is “Employee Benefits Records” (FHFA-10). This new system will contain records used to support the administration and management of FHFA's employee and other benefit programs.

The fifth proposed system is “Transit Subsidy Program Records” (FHFA-11). The proposed new system will contain records related to FHFA employees who apply for and receive transit subsidy program benefits. FHFA has an agreement with the Washington Metropolitan Transit Authority to provide and maintain transit subsidy related services. This new system will replace the system of records previously adopted by FHFA titled “DOT/ALL-8 Employee Transportation Facilitation.”

The sixth proposed system is “Parking Program Records” (FHFA-12). The proposed new system will contain records related to FHFA employees who apply for and receive parking program benefits. FHFA has agreements or contracts with government and commercial entities to provide and maintain parking related services. This new system will also replace the system of records previously adopted by FHFA titled “DOT/ALL-8 Employee Transportation Facilitation.”

The seventh proposed system is “Freedom of Information Act and Privacy Act Records” (FHFA-13). The proposed new system will contain records related to individuals who submit Freedom of Information Act (FOIA) and Privacy Act requests and appeals to FHFA.

The adopted system is “Personal Identity Verification Identity Management System” (GSA/GOVT-7). See 73 FR 22377 (Apr. 25, 2008). This system will cover all participating FHFA employees, contractor personnel, consultants, and other individuals who require routine, long-term access to FHFA facilities, federal facilities, information technology systems, and networks. The system does not apply to occasional visitors or short-term FHFA employees, contractor personnel, consultants, and other individuals. This adopted system will replace systems of records issued by FHFA's predecessor agencies FHFB and OFHEO, titled “FHFB-8 Personal Identify Verification Management System” and “OFHEO-03 Employee Identification Card System.” The FHFB system “FHFB-8” was published in the Federal Register at 71 FR 61052 (Oct. 17, 2006); and the OFHEO system “OFHEO-03” was originally published in the Federal Register in 1998, see 63 FR 9007 (Feb. 23, 1998), and further amended in 2007, see 72 FR 52572 (Sept. 14, 2007); and in 2008, see 73 FR 36548 (Jun. 27, 2008).

The seven proposed new systems and the routine uses for each are set out in their entirety and described in detail below.

FHFA-7

system name:

Mail, Contact, Telephone, and Other Lists.

security classification:

None.

system locations:

Federal Housing Finance Agency, 1700 G Street, NW., Washington, DC 20552; 1625 Eye Street, NW., Washington, DC 20006; 1750 Pennsylvania Avenue, NW., Washington, DC 20006; and any alternate work site utilized by employees of the Federal Housing Finance Agency (FHFA) or by individuals assisting such employees.

categories of individuals covered by the system:

Records contain information related to individuals, including FHFA employees, who submit to FHFA requests for information, subscriptions, guidance, informal advice, complaints, and assistance in any format, including but not limited to paper, telephone, and electronic submissions; FHFA employees and contractor personnel assigned to handle such submissions; and individuals who have registered for FHFA-related activities and events, such as FHFA-sponsored seminars, training programs, or compliance meetings and those who have so registered and responded to questionnaires, request forms, and evaluation or feedback forms.

categories of records in the system:

Records may contain information relating but not limited to name, title, affiliation, mailing address, Social Security number mortgage loan number, mortgage and banking information, telephone numbers, including mobile and cellular, facsimile number, e-mail address, business affiliation, and other contact and related supporting information provided to FHFA by individuals, including FHFA employees, or derived from other sources covered by this system of records and not currently covered under an existing system of records notice.

authority for maintenance of the system:

The Federal Home Loan Bank Act (12 U.S.C. 1421-1449) and Federal Housing Enterprises Financial Safety and Soundness Act of 1992 (12 U.S.C. 4501, et seq.), as amended by the Housing and Economic Recovery Act of 2008, Public Law No. 110-289, 122 Stat. 2654 (2008).

purpose(s):

(1) To track and process submissions to FHFA for requests for information, subscriptions, guidance, informal advice, complaints, and assistance.

(2) To track and process registration for FHFA-related activities and events and any feedback and evaluations from such activities and events.

routine uses of records maintained in the system, including categories of users and the purposes of such uses:

In addition to those disclosures generally permitted under 5 U.S.C. 552a(b) of the Privacy Act, these records or information contained therein may specifically be disclosed outside FHFA as a routine use pursuant to 5 U.S.C. 552a(b)(3) as follows:

(1) When (a) it is suspected or confirmed that the security or confidentiality of information in the system of records has been compromised; (b) FHFA has determined that as a result of the suspected or confirmed compromise there is a risk of harm to economic or property interests, identity theft or fraud, or harm to the security or integrity of this system or other systems or programs (whether maintained by FHFA or another agency or entity) that rely upon the compromised information; and (c) the disclosure is made to such agencies, entities, and persons who are reasonably necessary to assist in connection with FHFA's efforts to respond to the suspected or confirmed compromise and prevent, minimize, or remedy such harm.

(2) Where there is an indication of a violation or potential violation of law, whether civil, criminal or regulatory in nature, and whether arising by general statute or particular program statute, or by regulation, rule or order issued pursuant thereto, the relevant records in the system of records may be referred, as a routine use, to the appropriate agency, whether federal, state, local, foreign or a financial self-regulatory organization charged with the responsibility of investigating or prosecuting such violation or charged with enforcing or implementing the statute, or rule, regulation or order issued pursuant thereto.

(3) Records in this system may, in the discretion of FHFA, be disclosed to any individual during the course of any inquiry or investigation conducted by FHFA, or in connection with civil litigation, if FHFA has reason to believe that the individual to whom the record is disclosed may have further information about the matters related therein, and those matters appeared to be relevant at the time to the subject matter of the inquiry.

(4) A record or information in this system may be disclosed to any individual with whom FHFA contracts to reproduce, by typing, photocopy or other means, any record within this system for use by FHFA and its employees in connection with their official duties or to any individual who is utilized by FHFA to perform clerical or stenographic functions relating to the official business of FHFA.

(5) Records or information in records contained in this system may be disclosed to members of advisory committees that are created by FHFA or by Congress to render advice and recommendations to FHFA or to Congress, to be used solely in connection with their official, designated functions.

(6) Disclosure may be made to a Congressional office from the record of an individual in response to an inquiry from the Congressional office made at the request of that individual.

(7) To contractor personnel,, grantees, volunteers, interns, and others performing or working on a contract, service, grant, cooperative agreement, or project for FHFA.

disclosure to consumer reporting agencies:

None.

policies and practices for storing, retrieving, accessing, retaining, and disposing of records in the system:

storage:

Records are maintained in electronic format, paper form, and magnetic disk or tape. Electronic records are stored in computerized databases. Paper and magnetic disk, or tape records are stored in locked file rooms or locked file cabinets.

retrievability:

Records may be retrieved by any of the following: e-mail address, name, or an assigned file number for the purpose of responding to the requestor. Information may additionally be retrieved by other personal identifiers.

safeguards:

Records are safeguarded in a secured environment. Buildings where records are stored have security cameras and 24-hour security guard service. Access is limited to those individuals whose official duties require access. Computerized records are safeguarded through use of access codes and other information technology security measures.

retention and disposal:

Paper records and electronic media are retained in accordance with National Archives and Records Administration and FHFA Records Retention and Disposition Schedules. Disposal is by shredding or other appropriate disposal systems.

system manager(s) and address:

Federal Housing Finance Agency at 1700 G Street, NW., Washington, DC 20552; 1625 Eye Street, NW., Washington, DC 20006, 1750 Pennsylvania Avenue, NW., Washington, DC 20006, and any alternate work site utilized by FHFA employees or by individuals assisting such employees.

notification procedure:

Direct inquiries as to whether this system contains a record pertaining to an individual to the Privacy Act Officer, Federal Housing Finance Agency, 1700 G Street, NW., Washington, DC 20552, or privacy@fhfa.gov in accordance with the procedures set forth in 12 CFR part 1204.

record access procedures:

Direct requests for access to a record to the Privacy Act Officer, Federal Housing Finance Agency, 1700 G Street, NW., Washington, DC 20552, or privacy@fhfa.gov in accordance with the procedures set forth in 12 CFR part 1204.

contesting record procedures:

Direct requests to contest or appeal an adverse determination for a record to the Privacy Act Appeals Officer, Federal Housing Finance Agency, 1700 G Street, NW., Washington, DC 20552 in accordance with the procedures set forth in 12 CFR part 1204.

record source categories:

The information is provided by the individual and/or company making the request. Data may also be added pertaining to the fulfillment of the request. Information may also be obtained from other FHFA records systems.

exemptions claimed for the system:

None.

FHFA-8

system name:

Federal Home Loan Bank Directors.

security classification:

None.

system locations:

Federal Housing Finance Agency, 1700 G Street, NW., Washington, DC 20552; 1625 Eye Street, NW., Washington, DC 20006; 1750 Pennsylvania Avenue, NW., Washington, DC 20006; and any alternate work site utilized by employees of the Federal Housing Finance Agency (FHFA) or by individuals assisting such employees.

categories of individuals covered by the system:

Current and former Federal Home Loan Bank (FHLBank) Directors, and potential candidates for election.

categories of records in the system:

Records contain certifications of eligibility and qualifications, and information concerning the financial interests of current and former FHLBank Member and Independent Directors, actual and potential candidates for election, and their immediate families that may render that individual ineligible to serve as either a Member or Independent Director of a FHLBank.

authority for maintenance of the system:

12 U.S.C. 1427(a) and (b); 12 CFR 1261.5, 1261.7, 1261.10 to 1261.13.

purpose(s):

Records are collected to determine whether FHLBank Directors and potential candidates for election are in compliance with statutory and regulatory eligibility requirements and, in the case of Independent Directors, whether they fulfill certain statutory qualifications.

routine uses of records maintained in the system, including categories of users and the purposes of such uses:

In addition to those disclosures generally permitted under 5 U.S.C. 552a(b) of the Privacy Act, these records or information contained therein may specifically be disclosed outside FHFA as a routine use pursuant to 5 U.S.C. 552a(b)(3) as follows:

(1) When (a) it is suspected or confirmed that the security or confidentiality of information in the system of records has been compromised; (b) FHFA has determined that as a result of the suspected or confirmed compromise there is a risk of harm to economic or property interests, identity theft or fraud, or harm to the security or integrity of this system or other systems or programs (whether maintained by FHFA or another agency or entity) that rely upon the compromised information; and (c) the disclosure is made to such agencies, entities, and persons who are reasonably necessary to assist in connection with FHFA's efforts to respond to the suspected or confirmed compromise and prevent, minimize, or remedy such harm.

(2) Where there is an indication of a violation or potential violation of law, whether civil, criminal or regulatory in nature, and whether arising by general statute or particular program statute, or by regulation, rule or order issued pursuant thereto, the relevant records in the system of records may be referred, as a routine use, to the appropriate agency, whether federal, state, local, foreign or a financial self-regulatory organization charged with the responsibility of investigating or prosecuting such violation or charged with enforcing or implementing the statute, or rule, regulation or order issued pursuant thereto.

(3) Records in this system may, in the discretion of FHFA, be disclosed to any individual during the course of any inquiry or investigation conducted by FHFA, or in connection with civil litigation, if FHFA has reason to believe that the individual to whom the record is disclosed may have further information about the matters related therein, and those matters appeared to be relevant at the time to the subject matter of the inquiry.

(4) A record or information in this system may be disclosed to any individual with whom FHFA contracts to reproduce, by typing, photocopy or other means, any record within this system for use by FHFA and its employees in connection with their official duties or to any individual who is utilized by FHFA to perform clerical or stenographic functions relating to the official business of FHFA.

(5) Records or information in records contained in this system may be disclosed to members of advisory committees that are created by FHFA or by Congress to render advice and recommendations to FHFA or to Congress, to be used solely in connection with their official, designated functions.

(6) Disclosure may be made to a Congressional office from the record of an individual in response to an inquiry from the Congressional office made at the request of that individual.

(7) To contractor personnel, grantees, volunteers, interns, and others performing or working on a contract, service, grant, cooperative agreement, or project for FHFA.

policies and practices for storing, retrieving, accessing, retaining, and disposing of records in the system:

storage:

Records are maintained in electronic format, paper form, and magnetic disk or tape. Electronic records are stored in computerized databases. Paper and magnetic disk, or tape records are stored in locked file rooms or locked file cabinets.

retrievability:

Records may be retrieved by any of the following: e-mail address, name, or an assigned file number for the purpose of responding to the requestor. Information may additionally be retrieved by other personal identifiers.

safeguards:

Records are safeguarded in a secured environment. Buildings where records are stored have security cameras and 24-hour security guard service. Access is limited to those individuals whose official duties require access. Computerized records are safeguarded through use of access codes and other information technology security measures.

retention and disposal:

Paper records and electronic media are retained in accordance with National Archives and Records Administration and FHFA Records Retention and Disposition Schedules. Disposal is by shredding or other appropriate disposal systems.

SYSTEM MANAGER(S) AND ADDRESS:

Federal Housing Finance Agency at 1700 G Street, NW., Washington, DC 20552; 1625 Eye Street, NW., Washington, DC 20006, 1750 Pennsylvania Avenue, NW., Washington, DC 20006, and any alternate work site utilized by FHFA employees or by individuals assisting such employees.

notification procedure:

Direct inquiries as to whether this system contains a record pertaining to an individual to the Privacy Act Officer, Federal Housing Finance Agency, 1700 G Street, NW., Washington, DC 20552, or privacy@fhfa.gov in accordance with the procedures set forth in 12 CFR part 1204.

record access procedures:

Direct requests for access to a record to the Privacy Act Officer, Federal Housing Finance Agency, 1700 G Street, NW., Washington, DC 20552, or privacy@fhfa.gov in accordance with the procedures set forth in 12 CFR part 1204.

contesting record procedures:

Direct requests to contest or appeal an adverse determination for a record to the Privacy Act Appeals Officer, Federal Housing Finance Agency, 1700 G Street NW., Washington, DC 20552 or privacy@fhfa.gov in accordance with the procedures set forth in 12 CFR part 1204.

record source categories:

The information is provided by the individual and/or the FHLBank. Data may also be added pertaining to the fulfillment of the form. Information may also be obtained from other FHFA records systems.

exemptions claimed for the system:

None.

omb control number:

The information that is collected and contained in this system has been approved by the Office of Management and Budget under OMB Control No. 2590-0006, “Federal Home Loan Bank Directors.”

FHFA-9

system name:

Administrative Grievance Records.

security classification:

Unclassified but sensitive.

system locations:

Federal Housing Finance Agency, Office of Human Resources Management, 1700 G Street, NW., Washington, DC 20552; 1625 Eye Street, NW., Washington, DC 20006; 1750 Pennsylvania Avenue, NW., Washington, DC 20006; and any alternate work site utilized by employees of the Federal Housing Finance Agency (FHFA) or by individuals assisting such employees. For administrative purposes, duplicate systems may exist within FHFA at the duty station of each employee.

categories of individuals covered by the system:

To the extent not covered by any other system, this system covers current and former FHFA employees who have filed a grievance pursuant to FHFA's administrative grievance procedures.

categories of records in the system:

Records contain documents related to grievances, including the written grievance filed by the employee, statements of witnesses, records, documents, e-mails, the report of a grievance examiner when a grievance examiner is used, statements made by the parties to the grievance, and the agency's decisions.

authority for maintenance of the system:

5 CFR part 771.

purpose(s):

Records document grievance proceedings brought pursuant to FHFA's administrative grievance procedures.

routine uses of records maintained in the system, including categories of users and the purpose of such uses:

In addition to those disclosures generally permitted under 5 U.S.C. 552a(b) of the Privacy Act, all or a portion of the records or information contained in this system may be disclosed outside FHFA as a routine use as follows:

(1) To appropriate federal, state, and local authorities responsible for investigating or prosecuting a violation of, or for enforcing or implementing a statute, rule, regulation, or order issued, when the information indicates a violation or potential violation of law, whether civil, criminal, or regulatory in nature, and whether arising by general statute or particular program statute, or by regulation, rule, or order issued pursuant thereto;

(2) To a court, magistrate, or other administrative body in the course of presenting evidence, including disclosures to counsel or witnesses in the course of civil discovery, litigation, or settlement negotiations or in connection with criminal proceedings, when FHFA is a party to the proceeding or has a significant interest in the proceeding, to the extent that the information is determined to be relevant and necessary;

(3) To a congressional office in response to an inquiry made by the congressional office at the request of the individual who is the subject of the record;

(4) To appropriate federal, state, local authorities, and other entities when (a) It is suspected or confirmed that the security or confidentiality of information in the system of records has been compromised; (b) FHFA has determined that as a result of the suspected or confirmed compromise there is a risk of harm to economic or property interests, identity theft or fraud, or harm to the security or integrity of this system or other systems or programs (whether maintained by FHFA or another agency or entity) that rely upon the compromised information; and (c) the disclosure is made to such agencies, entities, and persons who are reasonably necessary to assist in connection with FHFA's efforts to respond to the suspected or confirmed compromise and prevent, minimize, or remedy such harm;

(5) To appropriate federal, state, and local authorities in connection with hiring or retaining an individual, conducting a background security or suitability investigation, adjudication of liability, or eligibility for a license, contract, grant, or other benefit;

(6) To appropriate federal, state, and local authorities, agencies, arbitrators, and other parties responsible for processing any personnel actions or conducting administrative hearings or corrective actions or grievances or appeals, or if needed in the performance of other authorized duties;

(7) To appropriate federal agencies and other public authorities for use in records management inspections;

(8) To officials of a labor organization when relevant and necessary to their duties of exclusive representation of FHFA employees concerning personnel policies, practices, and matters affecting working conditions;

(9) To contractor personnel, grantees, volunteers, interns, and others performing or working on a contract, service, grant, cooperative agreement, or project for FHFA;

(10) To the Department of Agriculture, National Finance Center to provide personnel, payroll, and related services and systems involving FHFA employees;

(11) To the Department of Treasury, Bureau of the Public Debt to provide financial management services and systems, including local and temporary duty travel, involving FHFA employees;

(12) To the Internal Revenue Service and appropriate State and local taxing authorities; and

(13) To appropriate federal agencies to effect salary or administrative offsets, or for other purposes connected with the collection of debts owed to the United States.

disclosure to consumer reporting agencies:

Pursuant to 5 U.S.C. 552a(b)(12) disclosures may be made from this system to consumer reporting agencies as defined in the Fair Credit Reporting Act (15 U.S.C. 1681a(f)) or the Federal Claims Collection Act of 1966 (31 U.S.C. 3701(a)(3)).

policies and practices for storing, retrieving, accessing, retaining and disposing of records in the system:

storage:

Records are maintained in paper form, electronic format, or magnetic disk or tape. Electronic records are stored in computerized databases. Paper and magnetic disk or tape records are stored in locked file rooms or locked file cabinets.

retrievability:

Records retrieved by name or other personal identifier.

safeguards:

Records are safeguarded in a secured environment. Buildings where records are stored have security cameras and 24-hour security guard service. Access is limited to those individuals whose official duties require access. Computerized records are safeguarded through use of access codes and other information technology security measures.

retention and disposal:

Paper records and electronic media are retained in accordance with National Archives and Records Administration and FHFA Records Retention and Disposition Schedules. Disposal is by shredding or other appropriate disposal systems.

system manager(s) and address:

Office of Human Resources Management, Federal Housing Finance Agency, 1625 Eye Street, NW., Washington, DC 20006.

notification procedure:

Direct inquiries as to whether this system contains a record pertaining to an individual to the Privacy Act Officer, Federal Housing Finance Agency, 1700 G Street, NW., Washington, DC 20552, or privacy@fhfa.gov, in accordance with the procedures set forth in 12 CFR part 1204.

record access procedures:

Direct requests for access to a record to the Privacy Act Officer, Federal Housing Finance Agency, 1700 G Street, NW., Washington, DC 20552, or privacy@fhfa.gov in accordance with the procedures set forth in 12 CFR part 1204.

contesting record procedures:

Direct requests to contest or appeal an adverse determination for a record to the Privacy Act Appeals Officer, Federal Housing Finance Agency, 1700 G Street NW., Washington, DC 20552, in accordance with the procedures set forth in 12 CFR part 1204.

record source categories:

The information is provided by current and former employees, FHFA personnel records, statements and testimony of other individuals, agency decisions, and related correspondence.

exemptions claimed for the system:

None.

FHFA-10

system name:

Employee Benefits Records.

security classification:

Unclassified but sensitive.

system locations:

Federal Housing Finance Agency (FHFA), Office of Human Resources Management, 1700 G Street, NW., Washington, DC 20552; 1625 Eye Street, NW., Washington, DC 20006. For administrative purposes, duplicate systems may exist within FHFA at the duty station of each employee. FHFA also has an interagency agreement with the U.S. Department of Agriculture, National Finance Center in New Orleans, Louisiana, to provide and maintain payroll, personnel, and related services and systems and with the U.S. Department of Treasury, Bureau of the Public Debt in Parkersburg, West Virginia, to provide and maintain financial management services and systems. FHFA also has agreements with various commercial benefit plan entities to provide employee benefits and related administrative services.

categories of individuals covered by the system:

To the extent not covered by any other system, this system covers current and former FHFA employees and their spouses, domestic partners, and dependents who are enrolled in, apply for, or participate in one or more of FHFA employee benefit programs including health club applications, health, life, and other insurance programs, and other FHFA-sponsored benefit programs.

categories of records in the system:

This system contains general enrollment and claim information for FHFA-sponsored programs. As appropriate to the specific program, records contain salary and earnings; name of employee and employee's spouse, domestic partner, and dependents and their gender, birth date, home address (including home phone number, mobile phone number, and home e-mail address), and Social Security number; membership in professional organizations (including membership number); employee locator and emergency contact information (including home, e-mail and office addresses, home and work phone numbers, and other emergency contact information); health, life, vision, and dental information; claims for reimbursement; student loan information; and related information.

authority for maintenance of the system:

The Federal Home Loan Bank Act (12 U.S.C. 1421-1449) and Federal Housing Enterprises Financial Safety and Soundness Act of 1992 (12 U.S.C. 4501, et seq.), as amended by the Housing and Economic Recovery Act of 2008, Public Law No. 110-289, 122 Stat. 2654 (2008).

purpose(s):

The records are collected, maintained and used to support the administration and management of FHFA employee and other benefits programs.

routine uses of records maintained in the system, including categories of users and the purposes of such uses:

In addition to those disclosures generally permitted under 5 U.S.C. 552a(b) of the Privacy Act, all or a portion of the records or information contained in this system may be disclosed outside FHFA as a routine use as follows:

(1) To appropriate federal, state, and local authorities responsible for investigating or prosecuting a violation of, or for enforcing or implementing a statute, rule, regulation, or order issued, when the information indicates a violation or potential violation of law, whether civil, criminal, or regulatory in nature, and whether arising by general statute or particular program statute, or by regulation, rule, or order issued pursuant thereto;

(2) To a court, magistrate, or other administrative body in the course of presenting evidence, including disclosures to counsel or witnesses in the course of civil discovery, litigation, or settlement negotiations or in connection with criminal proceedings, when FHFA is a party to the proceeding or has a significant interest in the proceeding, to the extent that the information is determined to be relevant and necessary;

(3) To a congressional office in response to an inquiry made by the congressional office at the request of the individual who is the subject of the record;

(4) To appropriate federal, state, local authorities, and other entities when (a) It is suspected or confirmed that the security or confidentiality of information in the system of records has been compromised; (b) FHFA has determined that as a result of the suspected or confirmed compromise there is a risk of harm to economic or property interests, identity theft or fraud, or harm to the security or integrity of this system or other systems or programs (whether maintained by FHFA or another agency or entity) that rely upon the compromised information; and (c) the disclosure is made to such agencies, entities, and persons who are reasonably necessary to assist in connection with FHFA's efforts to respond to the suspected or confirmed compromise and prevent, minimize, or remedy such harm;

(5) To appropriate federal, state, and local authorities in connection with hiring or retaining an individual, conducting a background security or suitability investigation, adjudication of liability, or eligibility for a license, contract, grant, or other benefit;

(6) To appropriate federal, state, and local authorities, agencies, arbitrators, and other parties responsible for processing any personnel actions or conducting administrative hearings or corrective actions or grievances or appeals, or if needed in the performance of other authorized duties;

(7) To appropriate federal agencies and other public authorities for use in records management inspections;

(8) To officials of a labor organization when relevant and necessary to their duties of exclusive representation concerning personnel policies, practices, and matters affecting working conditions;

(9) To contractor personnel, grantees, volunteers, interns, and others performing or working on a contract, service, grant, cooperative agreement, or project for the Federal Government;

(10) To the Department of Agriculture, National Finance Center to provide personnel, payroll, and related services and systems involving FHFA employees;

(11) To the Department of Treasury, Bureau of the Public Debt to provide financial management services and systems, including local and temporary duty travel, involving FHFA employees;

(12) To the Internal Revenue Service and appropriate State and local taxing authorities;

(13) To appropriate Federal agencies to effect salary or administrative offsets, or for other purposes connected with the collection of debts owed to the United States;

(14) To the Office of Child Support Enforcement, Administration for Children and Families, Department of Health and Human Services for the purpose of locating individuals to establish paternity, establish and modify orders of child support enforcement actions as required by the Personal Responsibility and Work Opportunity Reconciliation Act, the Federal Parent Locator System and the Federal Tax Offset System;

(15) To the Office of Child Support Enforcement for release to the Social Security Administration for verifying Social security numbers in connection with the operation of the Federal Parent Locator System by the Office of Child Support Enforcement;

(16) To the Office of Child Support Enforcement for release to the Department of Treasury for purposes of administering the Earned Income Tax Credit Program and verifying a claim with respect to employment in a tax return; and

(17) To commercial benefit providers, carriers, vendors, contractor personnel, and agents to process claims and provide related administrative services involving FHFA employees.

disclosure to consumer reporting agencies:

Pursuant to 5 U.S.C. 552a(b)(12) disclosures may be made from this system to consumer reporting agencies as defined in the Fair Credit Reporting Act (15 U.S.C. 1681a(f)) or the Federal Claims Collection Act of 1966 (31 U.S.C. 3701(a)(3)).

policies and practices for storing, retrieving, accessing, retaining, and disposing of records in the system:

storage:

Records are maintained in paper form, electronic format, and magnetic disk or tape. Electronic records are stored in computerized databases. Paper and magnetic disk or tape records are stored in locked file rooms or locked file cabinets.

retrievability:

Records are retrieved by the name, Social Security number, assigned file number, or by other personal identifier.

safeguards:

Records are safeguarded in a secured environment. Buildings where records are stored have security cameras and 24-hour security guard service. Access is limited to those individuals whose official duties require access. Computerized records are safeguarded through use of access codes and other information technology security measures.

retention and disposal:

Paper records and electronic media are retained in accordance with National Archives and Records Administration and FHFA Records Retention and Disposition Schedules. Disposal is by shredding or other appropriate disposal systems.

system manager(s) and address:

Office of Human Resources Management, Federal Housing Finance Agency, 1625 Eye Street, NW., Washington, DC 20006.

notification procedure:

Direct inquiries as to whether this system contains a record pertaining to an individual to the Privacy Act Officer, Federal Housing Finance Agency, 1700 G Street, NW., Washington, DC 20552, or privacy@fhfa.gov in accordance with the procedures set forth in 12 CFR part 1204.

record access procedures:

Direct requests for access to a record to the Privacy Act Officer, Federal Housing Finance Agency, 1700 G Street, NW., Washington, DC 20552, or privacy@fhfa.gov in accordance with the procedures set forth in 12 CFR part 1204.

contesting record procedures:

Direct requests to contest or appeal an adverse determination for a record to the Privacy Act Appeals Officer, Federal Housing Finance Agency, 1700 G Street NW., Washington, DC 20552 in accordance with the procedures set forth in 12 CFR part 1204.

record source categories:

The information is provided by current and former employees, the Office of Human Resources Management, FHFA personnel records, and other sources.

exemptions claimed for the system:

None.

FHFA-11

system name:

Transit Subsidy Program Records.

security classification:

Unclassified but sensitive.

system locations:

Federal Housing Finance Agency, 1700 G Street, NW., Washington, DC 20552; 1625 Eye Street, NW., Washington, DC 20006; 1750 Pennsylvania Avenue, NW., Washington, DC 20006; and any alternate work site utilized by employees of the Federal Housing Finance Agency (FHFA) or by individuals assisting such employees. For administrative purposes, duplicate systems may exist within FHFA at the duty station of each employee.

categories of individuals covered by the system:

To the extent not covered by any other system, this system covers employees who apply for and receive transit subsidy program benefits for use in commuting to and from the official duty station whether by a commercial or public transit systems, or by bicycle. FHFA has an agreement with the Washington Metropolitan Transit Authority to provide and maintain transit subsidy-related services and systems.

categories of records in the system:

The records in the system are completed FHFA transit subsidy benefit application forms and related information. The applications include, but are not limited to, the applicant's name, home address, title, grade, office, work address, phone number and e-mail address, commuting schedule, and transit system(s) used.

authority for maintenance of the system:

The Federal Home Loan Bank Act (12 U.S.C. 1421-1449) and Federal Housing Enterprises Financial Safety and Soundness Act of 1992 (12 U.S.C. 4501, et seq.), as amended by the Housing and Economic Recovery Act of 2008, Public Law No. 110-289, 122 Stat. 2654 (2008).

purpose(s):

The records are used to administer the FHFA transit subsidy benefits program.

routine uses of records maintained in the system, including categories of users and the purposes of such uses:

In addition to those disclosures generally permitted under 5 U.S.C. 552a(b) of the Privacy Act, all or a portion of the records or information contained in this system may be disclosed outside FHFA as a routine use as follows:

(1) To appropriate federal, state, and local authorities responsible for investigating or prosecuting a violation of, or for enforcing or implementing a statute, rule, regulation, or order issued, when the information indicates a violation or potential violation of law, whether civil, criminal, or regulatory in nature, and whether arising by general statute or particular program statute, or by regulation, rule, or order issued pursuant thereto;

(2) To a court, magistrate, or other administrative body in the course of presenting evidence, including disclosures to counsel or witnesses in the course of civil discovery, rules and regulations litigation, or settlement negotiations or in connection with criminal proceedings, when FHFA is a party to the proceeding or has a significant interest in the proceeding, to the extent that the information is determined to be relevant and necessary.

(3) To a congressional office in response to an inquiry made by the congressional office at the request of the individual who is the subject of the record;

(4) To appropriate federal, state, local authorities, and other entities when (a) It is suspected or confirmed that the security or confidentiality of information in the system has been compromised; (b) there is a risk of harm to economic or property interests, identity theft or fraud, or harm to the security or integrity of this system or other systems or programs that rely upon the compromised information; and (c) the disclosure is made to such agencies, entities, and persons who are reasonably necessary to assist in efforts to respond to the suspected or confirmed compromise and prevent, minimize, or remedy such harm;

(5) To appropriate federal, state, and local authorities in connection with hiring or retaining an individual, conducting a background security or suitability investigation, adjudication of liability, or eligibility for a license, contract, grant, or other benefit;

(6) To appropriate federal, state, and local authorities, agencies, arbitrators, and other parties responsible for processing any personnel actions or conducting administrative hearings or corrective actions or grievances or appeals, or if needed in the performance of other authorized duties;

(7) To appropriate federal agencies and other public authorities for use in records management inspections;

(8) To officials of a labor organization when relevant and necessary to their duties of exclusive representation concerning personnel policies, practices, and matters affecting working conditions;

(9) To contractor personnel, grantees, volunteers, interns, and others performing or working on a contract, service, grant, cooperative agreement, or project for the Federal Government.

(10) To the Washington Metropolitan Transit Authority or other transportation authority to provide transit subsidy benefit related services and systems involving FHFA employees.

disclosure to consumer reporting agencies:

None.

policies and practices for storing, retrieving, accessing, retaining, and disposing of records in the system:

storage:

Records are maintained in paper form, electronic format, and magnetic disk or tape. Electronic records are stored in computerized databases. Paper and magnetic disk or tape records are stored in locked file rooms or locked file cabinets.

retrievability:

Records are indexed and retrieved by employee name, employee identification number, or by other personal identifiers.

safeguards:

Records are safeguarded in a secured environment. Buildings where records are stored have security cameras and 24-hour security guard service. Access is limited to those individuals whose official duties require access. Computerized records are safeguarded through use of access codes and other information technology security measures.

retention and disposal:

Paper records and electronic media are retained in accordance with National Archives and Records Administration and FHFA Records Retention and Disposition Schedules. Disposal is by shredding or other appropriate disposal systems.

system manager(s) and address:

Office of Human Resources Management, Federal Housing Finance Agency, 1625 Eye Street, NW., Washington, DC 20006.

notification procedure:

Direct inquiries as to whether this system contains a record pertaining to an individual to the Privacy Act Officer, Federal Housing Finance Agency, 1700 G Street, NW., Washington, DC 2052, or privacy@fhfa.gov in accordance with the procedures set forth in 12 CFR part 1204.

record access procedures:

Direct requests for access to a record to the Privacy Act Officer, Federal Housing Finance Agency, 1700 G Street, NW., Washington, DC 20552, or privacy@fhfa.gov in accordance with the procedures set forth in 12 CFR part 1204.

contesting record procedures:

Direct requests to contest or appeal an adverse determination for a record to the Privacy Act Appeals Officer, Federal Housing Finance Agency, 1700 G Street, NW., Washington, DC 20552 in accordance with the procedures set forth in 12 CFR part 1204.

record source categories:

The information is provided by current and former FHFA employees as well as information retrieved from official FHFA records.

exemptions claimed for the system:

None.

FHFA-12

system name:

Parking Program Records.

security classification:

Unclassified but sensitive.

system locations:

Federal Housing Finance Agency, 1700 G Street, NW., Washington, DC 20552; 1625 Eye Street, NW., Washington, DC 20006; 1750 Pennsylvania Avenue, NW., Washington, DC 20006; and any alternate work site utilized by employees of the Federal Housing Finance Agency (FHFA) or by individuals assisting such employees. For administrative purposes, duplicate systems may exist within FHFA at the duty station of each employee.

categories of individuals covered by the system:

To the extent not covered by any other system, this system covers employees and individuals who apply for and/or receive parking program benefits for use in an FHFA contracted parking facility while commuting to and from work; individuals who car-pool with employees holding such permits; and employees interested in joining a car pool. FHFA has agreements or contracts with government and commercial vendors to provide and maintain parking related services and systems.

categories of records in the system:

The system contains the individual parking application, car pool application, disability parking application, special parking application/authorization, visitor parking requests, and related information. The information on the forms include, but is not limited to, the applicant's name; home address; title; grade; make, year and license number of the individual's vehicle(s); office; work hours; room and telephone (both work and personal) numbers; and arrival and departure times.

authority for maintenance of the system:

The Federal Home Loan Bank Act (12 U.S.C. 1421-1449) and Federal Housing Enterprises Financial Safety and Soundness Act of 1992 (12 U.S.C. 4501, et seq.), as amended by the Housing and Economic Recovery Act of 2008, Public Law No. 110-289, 122 Stat. 2654 (2008).

purpose(s):

The records are used to administer the parking program, to allocate the limited number of parking spaces among employees and visitors, to facilitate the formation of car pools with employees who have been issued parking permits, and to provide for the safe use of FHFA facilities.

routine uses of records maintained in the system, including categories of users and the purposes of such uses:

In addition to those disclosures generally permitted under 5 U.S.C. 552a(b) of the Privacy Act, all or a portion of the records or information contained in this system may be disclosed outside FHFA as a routine use as follows:

(1) To appropriate federal, state, and local authorities responsible for investigating or prosecuting a violation of, or for enforcing or implementing a statute, rule, regulation, or order issued, when the information indicates a violation or potential violation of law, whether civil, criminal, or regulatory in nature, and whether arising by general statute or particular program statute, or by regulation, rule, or order issued pursuant thereto;

(2) To a court, magistrate, or other administrative body in the course of presenting evidence, including disclosures to counsel or witnesses in the course of civil discovery, litigation, or settlement negotiations or in connection with criminal proceedings, when FHFA is a party to the proceeding or has a significant interest in the proceeding, to the extent that the information is determined to be relevant and necessary.

(3) To a congressional office in response to an inquiry made by the congressional office at the request of the individual who is the subject of the record;

(4) To appropriate federal, state, local authorities, and other entities when (a) It is suspected or confirmed that the security or confidentiality of information in the system has been compromised; (b) there is a risk of harm to economic or property interests, identity theft or fraud, or harm to the security or integrity of this system or other systems or programs that rely upon the compromised information; and (c) the disclosure is made to such agencies, entities, and persons who are reasonably necessary to assist in efforts to respond to the suspected or confirmed compromise and prevent, minimize, or remedy such harm;

(5) To appropriate federal, state, and local authorities in connection with hiring or retaining an individual, conducting a background security or suitability investigation, adjudication of liability, or eligibility for a license, contract, grant, or other benefit;

(6) To appropriate federal, state, and local authorities, agencies, arbitrators, and other parties responsible for processing any personnel actions or conducting administrative hearings or corrective actions or grievances or appeals, or if needed in the performance of other authorized duties;

(7) To appropriate federal agencies and other public authorities for use in records management inspections;

(8) To officials of a labor organization when relevant and necessary to their duties of exclusive representation concerning personnel policies, practices, and matters affecting working conditions;

(9) To contractor personnel,, grantees, volunteers, interns, and others performing or working on a contract, service, grant, cooperative agreement, or project for the Federal Government; and

(10) To government and commercial vendors that provide parking-related services and systems involving FHFA employees.

disclosure to consumer reporting agencies:

None.

policies and practices for storing, retrieving, accessing, retaining, and disposing of records in the system:

storage:

Records are maintained in paper form, electronic format, and magnetic disk or tape. Electronic records are stored in computerized databases. Paper and magnetic disk or tape records are stored in locked file rooms or locked file cabinets.

retrievability:

Records are indexed and retrieved by employee name, employee identification number, license tag number, or by other personal identifier .

safeguards:

Records are safeguarded in a secured environment. Buildings where records are stored have security cameras and 24-hour security guard service. Access is limited to those individuals whose official duties require access. Computerized records are safeguarded through use of access codes and other information technology security measures.

retention and disposal:

Paper records and electronic media are retained in accordance with National Archives and Records Administration and FHFA Records Retention and Disposition Schedules. Disposal is by shredding or other appropriate disposal systems.

system manager(s) and address:

Office of Human Resources Management, Federal Housing Finance Agency, 1625 Eye Street, NW., Washington, DC 20006.

notification procedure:

Direct inquiries as to whether this system contains a record pertaining to an individual to the Privacy Act Officer, Federal Housing Finance Agency, 1700 G Street, NW., Washington, DC 2052, or privacy@fhfa.gov in accordance with the procedures set forth in 12 CFR part 1204.

record access procedures:

Direct requests for access to a record to the Privacy Act Officer, Federal Housing Finance Agency, 1700 G Street, NW., Washington, DC 20052, or privacy@fhfa.gov in accordance with the procedures set forth in 12 CFR part 1204.

contesting record procedures:

Direct requests to contest or appeal an adverse determination for a record to the Privacy Act Appeals Officer, Federal Housing Finance Agency, 1700 G Street, NW., Washington, DC 20552 in accordance with the procedures set forth in 12 CFR part 1204.

record source categories:

The information is provided by current and former FHFA employees as well as information retrieved from official FHFA records.

exemptions claimed for the system:

None.

FHFA-13

system name:

Freedom of Information Act and Privacy Act Records.

security classification:

Unclassified but sensitive.

system locations:

Office of General Counsel, Federal Housing Finance Agency, 1700 G Street, NW., Washington, DC 20552; 1625 Eye Street, NW., Washington, DC 20006; 1750 Pennsylvania Avenue, NW., Washington, DC 20006; and any alternate work site utilized by employees of the Federal Housing Finance Agency (FHFA) or by individuals assisting such employees.

categories of individuals covered by the system:

Individuals who have submitted requests for information pursuant to the Freedom of Information Act (FOIA); individuals who have submitted requests for records about themselves under the provisions of the Privacy Act of 1974; individuals filing an administrative appeal of a denial, in whole or part, of any such requests; and individuals filing a civil action in federal court of a denial, in whole or part, of any such requests.

categories of records in the system:

The records contain (a) Names, addresses, phone numbers, and other personal information supplied by individuals making written requests pursuant to FOIA; (b)names, addresses, phone numbers, Social Security numbers, and other personal identifying information supplied by individuals making written requests to review or requests for amendment of records to the Privacy Act; (c) correspondence to or from the requester; correspondence to or from an individual writing on the requester's behalf; (d) internal FHFA memoranda; memoranda to or from other federal agencies having a substantial interest in the determination of the request; € responses to requests (including for example acknowledgment letters, fee estimate letters, and final determinations); (f) administrative appeals of denials of a FOIA request; (g) administrative appeals of denials of requests for records or requests for amendment of records made pursuant to the Privacy Act; and (h) and civil actions filed in federal court of a denial, in whole or part, of any such requests. These records may contain personal information retrieved in response to a request. Note:FOIA and Privacy Act records may contain inquiries and requests regarding any of FHFA's other systems of records subject to the FOIA and Privacy Act, and information about individuals from any of these other systems may become part of this system of records.

authority for maintenance of the system:

Freedom of Information Act (5 U.S.C. 552), the Privacy Act of 1974 (5 U.S.C. 552a), and FHFA implementing regulations, 12 CFR parts 1202 and 1204.

purpose(s):

The records maintained in this system are collected to process requests made under the provisions of FOIA and the Privacy Act. The records are also used by FHFA to prepare reports to the Office of Management and Budget, the Department of Justice, and Congress as required by the FOIA or Privacy Act.

routine uses of records maintained in the system, including categories of users and the purposes of such uses:

In addition to those disclosures generally permitted under 5 U.S.C. 552a(b) of the Privacy Act, all or a portion of the records or information contained in this system may be disclosed outside FHFA as a routine use as follows:

(1) To appropriate federal, state, and local authorities responsible for investigating or prosecuting a violation of, or for enforcing or implementing a statute, rule, regulation, or order issued, when the information indicates a violation or potential violation of law, whether civil, criminal, or regulatory in nature, and whether arising by general statute or particular program statute, or by regulation, rule, or order issued pursuant thereto;

(2) To a court, magistrate, or other administrative body in the course of presenting evidence, including disclosures to counsel or witnesses in the course of civil discovery, litigation, or settlement negotiations or in connection with criminal proceedings, when FHFA is a party to the proceeding or has a significant interest in the proceeding, to the extent that the information is determined to be relevant and necessary;

(3) To a congressional office in response to an inquiry made by the congressional office at the request of the individual who is the subject of the record;

(4) To appropriate federal, state, local authorities, and other entities when (a) It is suspected or confirmed that the security or confidentiality of information in the system has been compromised; (b) there is a risk of harm to economic or property interests, identity theft or fraud, or harm to the security or integrity of this system or other systems or programs that rely upon the compromised information; and (c) the disclosure is made to such agencies, entities, and persons who are reasonably necessary to assist in efforts to respond to the suspected or confirmed compromise and prevent, minimize, or remedy such harm;

(5) To appropriate federal, state, and local authorities in connection with hiring or retaining an individual, conducting a background security or suitability investigation, adjudication of liability, or eligibility for a license, contract, grant, or other benefit;

(6) To appropriate federal, state, and local authorities, agencies, arbitrators, and other parties responsible for processing any personnel actions or conducting administrative hearings or corrective actions or grievances or appeals, or if needed in the performance of other authorized duties;

(7) To appropriate federal agencies and other public authorities for use in records management inspections;

(8) To contractor personnel, grantees, volunteers, interns, and others performing or working on a contract, service, grant, cooperative agreement, or project for the Federal Government;

(9) To officials of a labor organization when relevant and necessary to their duties of exclusive representation concerning personnel policies, practices, and matters affecting working conditions;

(10) To another Federal Government agency having a substantial interest in the determination of the request or for the purpose of consulting with that agency as to the propriety of access or correction of the record in order to complete the processing of requests;

(11) To a third party authorized in writing to receive such information by the individual about whom the information pertains; and

(12) To the Department of the Treasury, federal debt collection centers, other appropriate Federal agencies, and private collection contractors or other third parties authorized by law, for the purpose of collecting or assisting in the collection of delinquent debts owed to FHFA. Disclosure of information contained in these records will be limited to the individual's name, Social Security number, and other information necessary to establish the identity of the individual, and the existence, validity, amount, status and history of the debt.

disclosure to consumer reporting agencies:

Pursuant to 5 U.S.C. 552a(b)(12), disclosures may be made from this system to consumer reporting agencies as defined in the Fair Credit Reporting Act (15 U.S.C. 1681a(f)) or the Federal Claims Collection Act of 1966 (31 U.S.C. 3701(a)(3)).

policies and practices for storing, retrieving, accessing, retaining, and disposing of records in the system:

storage:

Records are maintained in paper form, electronic format, and magnetic disk or tape. Electronic records are stored in computerized databases. Paper and magnetic disk or tape records are stored in locked file rooms or locked file cabinets.

retrievability:

Electronic media and paper format records are indexed and retrieved by the requester's name or by unique log number assigned to the request. Records sometimes are retrieved by reference to the name of the requester's firm, if any, or the subject matter of the request.

safeguards:

Records are safeguarded in a secured environment. Buildings where records are stored have security cameras and 24-hour security guard service. Access is limited to those individuals whose official duties require access. Computerized records are safeguarded through use of access codes and other information technology security measures.

retention and disposal:

Paper records and electronic media are retained in accordance with National Archives and Records Administration and FHFA Records Retention and Disposition Schedules. Disposal is by shredding or other appropriate disposal systems.

system manager(s) and address:

Office of General Counsel, FHFA, 1700 G Street, NW., Washington, DC 20552.

notification procedure:

Direct inquiries as to whether this system contains a record pertaining to an individual to the Privacy Act Officer, Federal Housing Finance Agency, 1700 G Street, NW., Washington, DC 2052, or privacy@fhfa.gov in accordance with the procedures set forth in 12 CFR part 1204.

record access procedures:

Direct requests for access to a record to the Privacy Act Officer, Federal Housing Finance Agency, 1700 G Street, NW., Washington, DC 20052, or privacy@fhfa.gov in accordance with the procedures set forth in 12 CFR part 1204.

contesting record procedures:

Direct requests to contest or appeal an adverse determination for a record to the Privacy Act Appeals Officer, Federal Housing Finance Agency, 1700 G Street, NW., Washington, DC 20552 in accordance with the procedures set forth in 12 CFR part 1204.

record source categories:

Requesters and individuals acting on behalf of requesters, FHFA offices and divisions, referrals to or from other Federal agencies having an interest in the request, and employees processing the requests.

exemptions claimed for the system:

FHFA has or may claim exemptions for several of its other systems of records under 5 U.S.C. 552a (k)(1), (k)(2), and (k)(5) and 12 CFR part 1204. During the processing of a FOIA or Privacy Act request, exempt records from these other systems of records may become part of the case record in this system of records. To the extent that exempt records from other FHFA systems of records are entered or become part of this system, FHFA claims the same exemptions, and any such records compiled in this system of records from any other system of records continues to be subject to any exemption(s) applicable for the records as they have in the primary systems of records of which they are a part.

Dated: May 25, 2011.
Edward J. DeMarco,
Acting Director, Federal Housing Finance Agency.

[FR Doc. 2011-14057 Filed 6-7-11; 8:45 am]

BILLING CODE 8070-01-P